DEPARTMENT OF TRANSPORTATION

Federal Motor Carrier Safety Administration

[Docket No. FMCSA-2018-0019]

Qualification of Drivers; Exemption Applications; Vision

AGENCY: Federal Motor Carrier Safety Administration (FMCSA), DOT.

ACTION: Notice of denials.

SUMMARY: FMCSA announces its decision to deny applications from 77 individuals who requested an exemption from the vision standard in the Federal Motor Carrier Safety Regulations (FMCSRs) to operate a CMV in interstate commerce.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays.

SUPPLEMENTARY INFORMATION:

I. Public Participation

A. Viewing Documents and Comments

To view comments, as well as any documents mentioned in this notice as being available in the docket, go to http://www.regulations.gov. Insert the docket number, FMCSA-2018-0019, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

B. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

FMCSA received applications from 77 individuals who requested an exemption from the vision standard in the FMCSRs. FMCSA has evaluated the eligibility of these applicants and concluded that granting these exemptions would not provide a level of safety that would be equivalent to or greater than, the level of safety that would be obtained by complying with the regulation 49 CFR 391.41(b)(10).

III. Basis for Exemption Determination

Under 49 U.S.C.31136 (e) and 31315, FMCSA may grant an exemption if it finds such an exemption would likely achieve a level of safety that is equivalent to, or greater then, the level that would be achieved absent such an exemption.

The Agency's decision regarding these exemption applications is based on the eligibility criteria, the terms and conditions for Federal exemptions, and an individualized assessment of each applicant's medical information provided by the applicant.

IV. Conclusion

The Agency has determined that these applicants do not satisfy the criteria eligibility or meet the terms and conditions of the Federal exemption and granting these exemptions would not provide a level of safety that would be equivalent to or greater than, the level of safety that would be obtained by complying with the regulation 49 CFR 391.41(b)(10). Therefore, the 77 applicants in this notice have been denied exemptions from the physical qualification standards in 49 CFR 391.41(b)(10).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following three applicants did not have sufficient driving experience over the past three years under normal highway operating conditions:

Sallie R. Brenner (TX); Kenneth R. Jordan (IL); and Jackie R. Karst (MS)

The following 36 applicants had no experience operating a CMV:

Scott A. Allnutt (KY)

Linas Brock (LA)

Landon M. Brown (CA)

Shaletta C. Buford (TN)

Jackueline D. Bullock (TX)

Peter K. Chege (MN)

Christopher J. Dantoni (PA)

Catherine Davis (IL)

Davidson Dorce (FL)

Jimi L. Engler (OH)

Kevin Ezell (CA)

Darrien W. Ferrell (IL)

Terrence H. Flick (IL)

Lonnie R. Gale (MD)

Liliana Gonzalez (IL)

Raheel Hameed (IL)

Jemminson R. Homesombath (CA)

Billy M. Lamb (MI)

Brian J. Loch (MN)

Eli Mast (ND)

Israel W. McAfee (VA)

Lamar P. Moore (IL)

Amanda M. Morse (IL)

Nicolas R. Motta (NC)

Bryan C. Pratt (PA)

Harold B. Rainwater (MO)

Ashley L. Reed (AR)

Keith G. Roberts (OH)

Sinisa Sabljic (NV)

Selemani A. Said (VA)

Joseph E. Saint Jean (NY)

Allen D. Sedwick (AR)

Ronald W. Smith (TX)

Ryan J. Smith (PA)

Kip R. Stringer (OR)

Jerred L. Thomas (OK)

The following 11 applicants did not have three years of experience driving a CMV on public highways with their vision deficiencies:

Bruce Banwell (IA)

Anthony C. Bears (MO)

Donald D. Brown (NC)

Ray E. Caldwell (WA)

Robert Evans (NH)

Harold J. Hughes (FL)

David E. Nelson (ID)

Perry E. Principi (MS)

Peter J. Urlacher (WA)

John A. Valusek (ND)

Owen W. Witmer (PA)

The following eight applicants did not have three years of recent experience driving a CMV on public highways with their vision deficiencies:

Monte L. Albrecht (CO)

Gary J. Bouchard (ME)

Henry Darden (MD)

Mark P. Gilbert (MT)

Charles W. McClister (PA)

Jason J. Oaks (SD)

James L. Ross (TX)

Mark J. Simmer (MA)

The following five applicants did not have sufficient driving experience over the past three years under normal highway operating conditions (gaps in driving record):

Robert J. Campbell (ND)

Timothy V. Compton (CA)

Jordan D. Mahoney (MN)

Gale L. O'Neil (PA)

Gary Peach (IN)

The following applicant, Christopher T. Sides (ME), contributed to accident(s) in which the applicant was operating a CMV, which is a disqualifying offense.

The following applicant, Keith Hauenstein (PA), did not have an optometrist or ophthalmologist willing to make a statement that they are able to operate a commercial vehicle from a vision standpoint.

The following seven applicants were denied for multiple reasons:

McVay Chambers (LA)

Narciso L. Ferreira (ID)

Nicholas Piscitelli (NJ)

Louis J. Scheele (IN)

Terry A. Smith (IA)

James H. Ward (NC)

Dana J. York (PA)

The following two applicants have not had stable vision for the preceding three-year period:

Plynie A. Deen (GA); and Bret A. Herbolsheimer (WA)

The following three applicants drove interstate while restricted to intrastate driving:

Raul Alcalde (CA); Joseph N. Fulton (SC); and Heriberto R. Perez (TX)

Issued on: November 5, 2018.
Larry W. Minor,
Associate Administrator for Policy.

[FR Doc. 2018-24849 Filed 11-13-18; 8:45 am]

BILLING CODE 4910-EX-P